DEPARTMENT OF DEFENSE

Department of the Army

Army Science Board; Notice of Open Meeting

In accordance with Section 10(a)(2) of the Federal Advisory Committee Act (P.L. 92-463), announcement is made of the following Committee Meeting:

Name of Committee: Army Science Board (ASB)—Venture Capital.

Date of Meeting: 05-06 March 2001.

Time of Meeting: 0900-1630, 05 March 2001, 0900-1630, 06 March 2001.

Place: Presidential Towers Office Bldg, 9th floor conference room, 2511 Jefferson Davis Highway, Arlington, VA 22202-3911.

Agenda: This is the second meeting of The Army Science Board's (ASB) Venture Capital Ad Hoc Study. Briefings will be presented on Department of Defense initiatives to access leading edge technologies and on commercial business strategies for accessing leading edge technologies. For further information, please contact LTC John Anzalone, Operations Research Analyst, (703) 604-7436. If you plan to attend and require an escort to the 9th floor conference room, please call Mr. Everett R. Gooch on (703) 604-7479.

Wayne Joyner,
Program Support Specialist, Army Science Board.

[FR Doc. 01-5561 Filed 3-6-01; 8:45 am]

BILLING CODE 3710-08-M